DEPARTMENT OF HEALTH AND HUMAN SERVICES

Administration for Children and Families

Notice of the Availability of the Fiscal Year 1999 Biennial Report to Congress on the Status of Children in Head Start Programs

AGENCY: Head Start Bureau, ACF, DHHS.

ACTION: Notice.

SUMMARY: The Administration for Children and Families announces the availability of the Biennial Report to Congress on the Status of Children in Head Start Programs. This report is required by Section 650 of the Head Start Act, as amended, which requires the Secretary of Health and Human Services to submit a report to the Congress at least once during every two-year period on the status of children in Head Start programs. The sources of data for this report were the Program Information Report (PIR), the Head Start Cost System (HSCOST) and the Head Start Monitoring and Tracking System (HSMTS).

Head Start is a comprehensive child development program for low-income preschool children and their families. Head Start provides high quality early childhood education, which emphasizes cognitive and language development, social and emotional development, physical and mental Health, nutrition, social services and parental involvement.

FOR FURTHER INFORMATION CONTACT: A copy of the Head Start Biennial Report of the Status of Children in Head Start may be obtained by contacting the Head Start Information and Publication Center, P.O. Box 26417, Alexandria, Virginia, 22313-0417. The fax number is (703) 683-5769. The Information and Publication Center may also re reached by e-mail at Puborder@headstartinfo.org.

SUPPLEMENTARY INFORMATION: This Notice is submitted to the Federal Register in compliance with Section 650 of the Head Start Act, as amended, which states that upon submitting the Biennial Report on the Status of Children in Head Start Programs to Congress, a notification must be placed in the Federal Register announcing that it has been submitted to Congress and is available to the general public.

Dated: March 28, 2001.
James A. Harrell,
Acting Commissioner, Administration on Children, Youth and Families.

[FR Doc. 01-8120 Filed 4-2-01; 8:45 am]

BILLING CODE 4184-01-M